DEPARTMENT OF LABOR

Employment and Training Administration

[TA-W-59,019]

McCormick International USA, Inc., Pella, IA; Notice of Termination of Investigation

Pursuant to section 221 of the Trade Act of 1974, as amended, an investigation was initiated on March 14, 2006 in response to a petition filed by a Texas Workforce Commission representative on behalf of workers of McCormick International USA, Inc., Pella, Iowa.

The petition has been deem invalid. A state agency representative cannot file a TAA petition on behalf of workers of a firm located in another state.

Consequently, further investigation would serve no purpose, and the investigation has been terminated.

Signed at Washington, DC, this 11th day of April 2006.
Linda G. Poole,
Certifying Officer, Division of Trade Adjustment Assistance.

[FR Doc. E6-6097 Filed 4-21-06; 8:45 am]

BILLING CODE 4510-30-P